DEPARTMENT OF TRANSPORTATION

National Highway Traffic Safety Administration

[Docket NHTSA-99-5087]

Rulemaking Program Meeting

AGENCY: National Highway Traffic Safety Administration, DOT.

ACTION: Notice of NHTSA Rulemaking Status Meeting.

SUMMARY: This notice announces a public meeting at which NHTSA will answer questions from the public and the automobile industry regarding the agency's vehicle regulatory program.

DATES: The Agency's regular public meeting relating to its vehicle regulatory program will be held on Thursday, November 21, 2002, beginning at 9:45 a.m. and ending at approximately 12 p.m. at the Best Western Gateway International Hotel 9191 Wickham, Romulus, Michigan. Questions relating to the vehicle regulatory program must be submitted in writing with a diskette (Microsoft Word) by Wednesday, November 6, 2002, to the address shown below or by e-mail. If sufficient time is available, questions received after November 6, may be answered at the meeting. The individual, group or company submitting a questions(s) does not have to be present for the questions(s) to be answered. A consolidated list of the questions submitted by November 6, 2002, and the issues to be discussed will be posted on NHTSA's Web site (www.nhtsa.dot.gov) by Wednesday, November 20, 2002, and also will be available at the meeting. The agency will hold a second public meeting on November 21, devoted exclusively to a presentation of research and development programs. This meeting will begin at 1:30 p.m. and end at approximately 5 p.m. This meeting is described more fully in a separate announcement. The next NHTSA Public Meeting will take place on Thursday, April 3, 2003, at the Best Western Gateway International Hotel, Romulus, Michigan.

ADDRESSES: Questions for the November 21, NHTSA Rulemaking Status Meeting, relating to the agency's vehicle regulatory program, should be submitted to Delia Lopez, NVS-100, National Highway Traffic Safety Administration, Room 5401, 400 Seventh Street, SW., Washington, DC 20590, Fax Number (202) 366-4329, e-mail dlopez@nhtsa.dot.gov. The meeting will be held at the Best Western Gateway International Hotel, Romulus, Michigan 48174, the telephone number is 734-728-2800.

FOR FURTHER INFORMATION CONTACT: Delia Lopez, (202) 366-1810.

SUPPLEMENTARY INFORMATION: NHTSA holds regular public meetings to answer questions from the public and the regulated industries regarding the agency's vehicle regulatory program. Questions on aspects of the agency's research and development activities that relate directly to ongoing regulatory actions should be submitted, as in the past, to the agency's Rulemaking Office. Transcripts of these meetings will be available for public inspection in the DOT Docket in Washington, DC, within four weeks after the meeting. Copies of the transcript will then be available at ten cents a page, (length has varied from 80 to 150 pages) upon request to DOT Docket, Room PL-401, 400 Seventh Street, SW., Washington, DC 20590. The DOT Docket is open to the public from 10 a.m. to 5 p.m. The transcript may also be accessed electronically at http://dms.dot.gov, at docket NHTSA-99-5087. Questions to be answered at the public meeting should be organized by categories to help us process the questions into an agenda form more efficiently.

Sample format:

I. Rulemaking

A. Crash avoidance

B. Crashworthiness

C. Other Rulemakings

II. Consumer Information

III. Miscellaneous

We plan to conduct this meeting differently than past meetings in an effort to have a greater dialogue with the public on rulemaking issues. Instead of responding individually to questions asking when we plan to publish a particular rulemaking action, we will respond to all of those questions on a single piece of paper. That piece of paper will be posted on our Web site by Wednesday, November 20 and distributed at the public meeting on November 21. Our intention is to move these meetings away from focusing on NHTSA's schedule for its rulemaking actions to discussions about the substantive progress on rulemaking actions and the agency's substantive plans, to the extent those have been determined.

For the November 21 meeting, NHTSA will begin by addressing any substantive issues raised in the questions submitted in response to this notice. We will then offer a presentation by Roger Kurrus on the research behind and reasons supporting the star ratings used in our New Car Assessment Program. NHTSA will then give a brief review of our plans for improving occupant protection in rear-end crashes. We expect this will form the basis for better dialogue with the attendees at these public meetings on rulemaking.

NHTSA will provide auxiliary aids to participants as necessary. Any person desiring assistance of “auxiliary aids” (e.g., sign-language interpreter, telecommunications devices for deaf persons (TDDs), readers, taped texts, brailled materials, or large print materials and/or a magnifying device), please contact Delia Lopez on (202) 366-1810, by COB Wednesday, November 20, 2002.

Issued: October 23, 2002.
Stephen R. Kratzke,
Associate Administrator for Rulemaking.

[FR Doc. 02-27370 Filed 10-25-02; 8:45 am]

BILLING CODE 4910-59-P